DEPARTMENT OF AGRICULTURE

Submission for OMB Review; Comment Request

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by July 5, 2013 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Tuberculosis Testing for Imported Cattle from Mexico.

OMB Control Number: 0579-0224.

Summary of Collection: The Animal Health Protection Act (AHPA) of 2002 is the primary Federal law governing the protection of animal health. The law gives the Secretary of Agriculture broad authority to detect, control, or eradicate pest or diseases of livestock or poultry. Disease prevention is the most effective method for maintaining a healthy animal population and enhancing the Animal and Plant Health Inspection Service (APHIS) ability to compete in the global market of animal and animal product trade. APHIS will collect information using form VS 17-129, “Application for Import or In Transit Permit” and VS 17-29, “Declaration of Importation.”

Need and Use of the Information: APHIS will collect information from the permit application regarding the type, number, and identification of the animals to be exported to the United States, as well as information concerning the origin, intended date and location of arrival, routes of travel, and destination of the animals. Cattle imported from Mexico must be accompanied by a Customer Declaration under APHIS import requirements. The information requested on this form facilitate the oversight necessary to ensure that all APHIS import requirements are met to mitigate the introduction of foreign and other animal diseases regulated by APHIS. APHIS will also collect information that certified that the herd in which the cattle was born and raised has tested TB-negative to a whole herd test.

Failure to collect this information would make it impossible for APHIS to effectively evaluate the TB risks associated with cattle importation from Mexico, thereby increasing the likelihood that healthy cattle and bison throughout the United States will be exposed to tuberculosis.

Description of Respondents: Business or other for-profit; farms.

Number of Respondents: 81,851.

Frequency of Responses: Reporting: On occasion.

Total Burden Hours: 92,215.

Animal and Plant Health Inspection Service

Title: Cut Flowers from Countries with Chrysanthemum White Rust.

OMB Control Number: 0579-0271.

Summary of Collection: Under the Plant Protection Act (7 U.S.C. 7701—et.seq.), the Secretary of Agriculture is authorized to prohibit or restrict the importation, entry, or movement of plants and plant pests to prevent the introduction of plant pests into the United States or their dissemination within the United States. The regulations in 7 CFR Part 319 prohibits or restricts the importation of plants, plant parts, and related materials to prevent the introduction of foreign plant pests into the United States. Conditions governing the importation of cut flowers into the United States are contained in “Subpart-Cut Flowers” (§§ 319.74-1 through 319.74-4, referred to as the regulations). Through these regulations the Animal and Plant Health Inspection Service (APHIS) has established specific requirements for the importation of cut that are hosts of Chrysanthemum White Rust (CWR) from countries where the disease is known to occur and to make APHIS' cut flowers and nursery stock regulations consistent.

CWR is a serious disease in nurseries where it may cause complete loss of greenhouse chrysanthemum crops.

Need and Use of the Information: APHIS requires that some plants and plant products are accompanied by a phytosanitary inspection certificate that is completed by plant health officials in the originating or transiting country. APHIS uses the information on this certificate to determine the pest condition of the shipment at the time of inspection in the foreign country. APHIS also requires that flowers must be grown in a production site that is registered with the National Plant Protection Organization (NPPO) of the country in which the production site is located or with the NPPO's designee, and the NPPO or its designee must provide a list of registered sites to APHIS. The information is used as a guide to the intensity of the inspection that APHIS must conduct when the shipment arrives. Without this information, all shipments would need to be inspected very thoroughly, thereby requiring considerably more time.

Description of Respondents: Business or other for-profit; Federal Government.

Number of Respondents: 1,045.

Frequency of Responses: Reporting: On occasion.

Total Burden Hours: 646.

Ruth Brown,
Departmental Information Collection Clearance Officer.

[FR Doc. 2013-13130 Filed 6-3-13; 8:45 am]

BILLING CODE 3410-34-P